DEPARTMENT OF TRANSPORTATION

Federal Aviation Administration

14 CFR Part 39

[Docket No. FAA-2005-20080; Directorate Identifier 2003-NM-193-AD]

RIN 2120-AA64

Airworthiness Directives; Various Aircraft Equipped With Honeywell Primus II RNZ-850/-851 Integrated Navigation Units

AGENCY: Federal Aviation Administration (FAA), Department of Transportation (DOT).

ACTION: Supplemental notice of proposed rulemaking (NPRM); reopening of comment period.

SUMMARY: The FAA is revising an earlier NPRM for an airworthiness directive (AD) that applies to various aircraft equipped with a Honeywell Primus II RNZ-850/-851 Integrated Navigation Unit (INU). The original NPRM would have superseded an existing AD that, as one alternative for compliance, provides for a one-time inspection to determine whether a certain modification has been installed on the Honeywell Primus II NV850 Navigation Receiver Module (NRM), which is part of the INU. In lieu of accomplishing this inspection, and for aircraft found to have an affected NRM, the existing AD provides for revising the aircraft flight manual to include new limitations for instrument landing system approaches. The original NPRM proposed to require inspecting to determine whether certain other modifications have been done on the NRM; and doing related investigative, corrective, and other specified actions, as applicable. The original NPRM resulted from reports of erroneous glideslope indications on certain aircraft equipped with subject INUs. This new action revises the original NPRM by describing further modifications to address additional anomalies. We are proposing this supplemental NPRM to ensure that the flightcrew has an accurate glideslope deviation indication. An erroneous glideslope deviation indication could lead to the aircraft making an approach off the glideslope, which could result in impact with an obstacle or terrain.

DATES: We must receive comments on this supplemental NPRM by June 12, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Honeywell Aerospace Electronic Systems, CES—Phoenix, P.O. Box 2111, Phoenix, Arizona 85036-1111, for service information identified in this proposed AD.

FOR FURTHER INFORMATION CONTACT: J. Kirk Baker, Aerospace Engineer, Systems and Equipment Branch, ANM-130L, FAA, Los Angeles Aircraft Certification Office, 3960 Paramount Boulevard, Lakewood, California 90712-4137; telephone (562) 627-5345; fax (562) 627-5210.

SUPPLEMENTARY INFORMATION:

Comments Invited

We invite you to submit any relevant written data, views, or arguments regarding this proposal. Send your comments to an address listed in the ADDRESSES section. Include the docket number “Docket No. FAA-2005-20080; Directorate Identifier 2003-NM-193-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility offices between 9 a.m. and 5 p.m., Monday through Friday, except Federal holidays. The Docket Management Facility office (telephone (800) 647-5227) is located on the plaza level of the Nassif Building at the DOT street address stated in ADDRESSES. Comments will be available in the AD docket shortly after the Docket Management System receives them.

Discussion

We proposed to amend part 39 of the Federal Aviation Regulations (14 CFR part 39) with a notice of proposed rulemaking (NPRM) for an AD (the “original NPRM”) for various aircraft equipped with a Honeywell Primus II RNZ-850/-851 Integrated Navigation Unit (INU). The original NPRM proposed to supersede AD 2003-04-06, amendment 39-13054 (68 FR 8539, February 24, 2003), which applies to various aircraft equipped with the subject INU. AD 2003-04-06 stated that it was considered “interim action” because the manufacturer was developing final corrective modifications for the unsafe condition specified in AD 2003-04-06; and that we might consider further rulemaking when those modifications were released. The original NPRM followed from the release of those modifications. The original NPRM was published in the Federal Register on January 19, 2005 (70 FR 2982). The original NPRM proposed to require inspecting to determine whether certain other modifications have been done on the Honeywell Primus II NV850 Navigation Receiver Module (NRM), which is part of the subject INU; and doing related investigative, corrective, and other specified actions, as applicable. The original NPRM resulted from reports of erroneous glideslope indications on certain aircraft equipped with subject INUs. That condition, if not corrected, could lead to the aircraft making an approach off the glideslope, which could result in impact with an obstacle or terrain.

Actions Since Original NPRM Was Issued

Since we issued the original NPRM, there have been reports of additional anomalies during instrument landing system (ILS) landings on several Empresa Brasileira de Aeronautica S.A. (EMBRAER) airplanes equipped with subject INUs. Reports specified that the localizer deviation displayed by the INU changed quickly from a centered position to a full-scale deviation for a few seconds, then was flagged as invalid data. Honeywell has issued service information to address such ILS anomalies.

Relevant Service Information Specified in Original NPRM

We have reviewed Honeywell Service Bulletin 7510100-34-A0035, dated July 11, 2003, which describes procedures for inspecting the NRM to determine whether Mod L has been done. If Mod L has not been done, the service bulletin specifies re-identifying the NRM with a new part number. If Mod L has been done, the service bulletin specifies inspecting to determine if Mod N, P, or R has also been done. (Mod N, P, and R test the NRM for discrepant signals.) If any of those mods has been done, the specified actions are replacing the existing modification plates on the NRM and INU with new plates bearing new part numbers. If Mod L has been done, but neither Mod N, P, nor R has been done, the service bulletin specifies doing further investigative actions and corrective actions in accordance with Honeywell Service Bulletin 7510100-34-A0034, dated February 28, 2003, then replacing the existing modification plates on the NRM and INU with new plates bearing new part numbers.

Honeywell Service Bulletin 7510100-34-A0034 describes procedures for inspecting to determine the NRM part number and marking the modification plates of the NRM and INU accordingly. This service bulletin also describes procedures for a related investigative action if neither Mod N nor P is marked, which consists of testing the INU for discrepant signals. If any discrepant signal is detected, corrective action consists of replacing the unit with a new or modified INU. Honeywell Service Bulletin 7510100-34-A0034 refers to Honeywell Service Bulletin 7510134-34-A0016, currently at Revision 001, dated March 4, 2003, as an additional source of service information for re-identifying the INU.

New Relevant Service Information

We have reviewed Honeywell Service Bulletin 7510100-34-0037, dated July 8, 2004. The service bulletin describes procedures for replacing the NRM, which is part of the subject INU, with an NRM that is at Mod T. Service Bulletin 7510100-34-0037 also specifies Honeywell Service Bulletin 7510134-34-0018, dated July 8, 2004, as an additional source of service information for modifying the NRM to the “Mod T” configuration.

We have reviewed Honeywell Service Bulletin 7510134-34-0018. The service bulletin describes procedures for determining the part number of a certain circuit card assembly (CCA) inside the NRM; replacing the RF absorber in the CCA, if necessary, with an improved RF absorber having a different part number and marking the appropriate revision letter on the CCA; and marking the NRM as Mod T.

Accomplishing the actions specified in the service information is intended to adequately address the unsafe condition.

Comments

We have considered the following comments on the original NPRM.

Request for Increased Compliance Time

One commenter, Express Jet, requests that we extend the compliance time. The commenter states it has already returned about 106 suspect units to Honeywell for modification. Express Jet asserts that program data collected for 475,000 flight hours for the modified units show no occurrence of the described anomalies. Express Jet further states it has a large number of airplanes still to be inspected and modified and asserts that accomplishing the inspections and modifications within the specified 12 months will be very cumbersome. Express Jet requests that we extend the compliance time to 24 months.

We agree with this request. The revisions specified in paragraph (h) of the proposed AD for the Limitations section of the aircraft flight manual (AFM) will continue to be required until all aircraft have been modified. Further, Express Jet has submitted data showing no occurrence of the described anomalies for any of its modified units. Therefore, we have determined that these combined factors demonstrate that extending the compliance time as requested will pose no increased risk to affected aircraft. Accordingly, we have revised the 12-month compliance time specified in paragraph (j) of the original NPRM to 24 months in this supplemental NPRM.

Request for Clarification of Inspection To Determine Modification Level

One commenter, a private citizen, requests that we clarify the proposed requirements of the original NPRM for inspecting to determine the modification level of the NRM. The commenter states that the proposed requirements of paragraph (k) of the original NPRM as currently written do not make sense. Paragraph (k) states: “If the inspection to determine whether Mod L is installed, as required by paragraph (j) of this AD, is done within the compliance time specified in paragraph (f) of this AD, paragraph (f) of this AD does not need to be done.” The commenter explains that, since paragraph (f) was required to be accomplished within 5 days after March 11, 2003, it would not be possible to comply with paragraph (j) within that same time frame, since March 16, 2003, has already gone by. The commenter also states that the requirement of paragraph (j) to inspect for the installation of modification L, N, P, or R, is contradicted by the opening clause of paragraph (k), and asserts that this can't be the intent of paragraph (k) in the original NPRM. The commenter suggests that, to clear up this confusion and make it possible to accomplish the requirements of the related paragraphs, paragraph (k) should be reworded as follows: “If the inspection to determine whether Mod L is installed, as required by paragraph (g) of this AD, is done within the compliance time specified in paragraph (f) of this AD, paragraph (j) of this AD does not need to be done.”

We do not agree with this request. We have determined that the wording of paragraph (k) of the original NPRM reflects the correct compliance time for both paragraphs (f) and (g) of the original NPRM. Further, paragraph (j) is required regardless of compliance time or the findings of paragraph (f). Therefore, we have not changed paragraph (k) in this supplemental NPRM.

FAA's Determination and Proposed Requirements of the Supplemental NPRM

The changes discussed above expand the scope of the original NPRM; therefore, we have determined that it is necessary to reopen the comment period to provide additional opportunity for public comment on this supplemental NPRM. This proposed AD would supersede AD 2003-04-06. This proposed AD would retain the requirements of the existing AD. This proposed AD would also require accomplishing the actions specified in the service information described previously, except as discussed under “Differences Between the Proposed AD and Service Information.”

Differences Between the Proposed AD and Service Information

The service information specifies reporting certain information and returning parts to the manufacturer. However, this proposed AD would not require those actions.

Explanation of Changes Made to This Proposed Supplemental NPRM

We have revised this supplemental NPRM to clarify the appropriate procedure for notifying the principal inspector before using any approved AMOC on any airplane to which the AMOC applies.

After the original NPRM was issued, we reviewed the figures we have used over the past several years to calculate AD costs to operators. To account for various inflationary costs in the airline industry, we find it necessary to increase the labor rate used in these calculations from $65 per work hour to $80 per work hour. The cost impact information, below, reflects this increase in the specified hourly labor rate.

Costs of Compliance

For the purposes of this proposed AD, we estimate that there are 3,063 aircraft worldwide that may be equipped with a part that is subject to this proposed AD, including about 1,500 aircraft of U.S. registry.

The inspection to determine whether Mod L has been done, which is currently required by AD 2003-04-06 and retained in this proposed AD, takes about 1 work hour per aircraft, at an average labor rate of $80 per work hour. Based on these figures, the estimated cost of the currently required actions is $80 per aircraft.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-13054 (68 FR 8539, February 24, 2003) and adding the following new airworthiness directive (AD):

Various Aircraft: Docket No. FAA-2005-20080; Directorate Identifier 2003-NM-193-AD.

Comments Due Date

(a) The FAA must receive comments on this AD action by June 12, 2006.

Affected ADs

(b) This AD supersedes AD 2003-04-06.

Applicability

(c) This AD applies to aircraft, certificated in any category, equipped with a Honeywell Primus II RNZ-850/-851 Integrated Navigation Unit (INU) having a part number identified in Table 1 of this AD; including, but not limited to, BAE Systems (Operations) Limited (Jetstream) Model 4101 airplanes; Bombardier BD-700-1A10 series airplanes; Bombardier CL-215-6B11 (CL415 variant) series airplanes; Cessna Model 560, 560XL, and 650 airplanes; Dassault Model Mystere-Falcon 50 series airplanes; Dornier Model 328-100 and -300 series airplanes; Empresa Brasileira de Aeronautica S.A. (EMBRAER) Model EMB-135 and -145 series airplanes; Learjet Model 45 airplanes; Raytheon Model Hawker 800XP and Hawker 1000 airplanes; and Sikorsky Model S-76A, S-76B, and S-76C aircraft.

Table 1.—INU Part Numbers
Part numbers
7510100-811 through 7510100-814 inclusive.
7510100-831 through 7510100-834 inclusive.
7510100-901 through 7510100-904 inclusive.
7510100-911 through 7510100-914 inclusive.
7510100-921 through 7510100-924 inclusive.
7510100-931 through 7510100-934 inclusive.

Note 1: This AD applies to Honeywell Primus II RNZ-850/-851 INUs installed on any aircraft, regardless of whether the aircraft has been otherwise modified, altered, or repaired in the area subject to the requirements of this AD. For aircraft that have been modified, altered, or repaired so that the performance of the requirements of this AD is affected, the owner/operator must request approval for an alternative method of compliance in accordance with paragraph (m) of this AD. The request should include an assessment of the effect of the modification, alteration, or repair on the unsafe condition addressed by this AD; and, if the unsafe condition has not been eliminated, the request should include specific proposed actions to address it.

Unsafe Condition

(d) This AD results from reports indicating that erroneous glideslope indications have occurred on certain aircraft equipped with the subject INUs. We are issuing this AD to ensure that the flightcrew has an accurate glideslope deviation indication. An erroneous glideslope deviation indication could lead to the aircraft making an approach off the glideslope, which could result in impact with an obstacle or terrain.

Compliance

(e) You are responsible for having the actions required by this AD performed within the compliance times specified, unless the actions have already been done.

Requirements of AD 2003-04-06

Compliance Time for Action

(f) Within 5 days after March 11, 2003 (the effective date of AD 2003-04-06, amendment 39-13054), accomplish the requirements of either paragraph (g) or (h) of this AD. After the effective date of this AD, only accomplishing the requirements of paragraph (g) of this AD is acceptable for compliance with this paragraph.

Inspection To Determine Part Number

(g) Perform a one-time general visual inspection of the modification plate for the Honeywell Primus II NV-850 Navigation Receiver Module (NRM); part number 7510134-811, -831, -901, or -931; which is part of the Honeywell Primus II RNZ-850/-851 INU; to determine if Mod L has been installed. The modification plate is located on the bottom of the Honeywell Primus II RNZ-850/-851 INU, is labeled NV-850, and contains the part number and serial number for the Honeywell Primus II NV-850 NRM. If Mod L is installed, the letter L will be blacked out. Honeywell Service Bulletin 7510100-34-A0035, dated July 11, 2003, is an acceptable source of service information for the inspection required by this paragraph.

(1) If Mod L is installed, before further flight, do paragraph (h) or (j) of this AD. After the effective date of this AD, only accomplishment of paragraph (j) is acceptable for compliance with this paragraph.

(2) If Mod L is not installed, no further action is required by this paragraph.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Note 3: For more information on the inspection specified in paragraph (g) of this AD, refer to Honeywell Technical Newsletter A23-3850-001, Revision 1, dated January 21, 2003.

Aircraft Flight Manual Revision

(h) Revise the Limitations section of the aircraft flight manual (AFM) to include the following statements (which may be accomplished by inserting a copy of the AD into the AFM):

“FLIGHT LIMITATIONS”

When crossing the Outer Marker on glideslope, the altitude must be verified with the value on the published procedure.

For aircraft with a single operating glideslope receiver, the approach may be flown using normal procedures no lower than Localizer Only Minimum Descent Altitude (MDA).

For aircraft with two operating glideslope receivers, the aircraft may be flown to the published minimums for the approach using normal procedures if both glideslope receivers are tuned to the approach and both crew members are monitoring the approach using independent data and displays.”

Parts Installation

(i) As of March 11, 2003, no person may install a Honeywell Primus II NV-850 NRM on which Mod L has been installed, on the Honeywell Primus II RNZ-850/-851 INU of any aircraft, unless paragraph (h) or (k) of this AD is accomplished. As of the effective date of this AD, only accomplishment of paragraph (k) is acceptable for compliance with this paragraph.

New Requirements of This AD

Inspection To Determine Modification Level of NRM

(j) For aircraft on which Mod L was found to be installed during the inspection required by paragraph (g) of this AD, or for aircraft on which paragraph (h) of this AD was accomplished: Within 24 months after the effective date of this AD, do an inspection of the modification plate on the Honeywell Primus II NV-850 NRM; part number 7510134-811, -831, -901, or -931; which is part of the Honeywell Primus II RNZ-850/-851 INU; to determine if Mod L, N, P, R or T is installed. The modification plate located on the bottom of the Honeywell Primus II RNZ-850/-851 INU is labeled NV-850, and contains the part number and serial number for the Honeywell Primus II NV-850 NRM. If Mod L, N, P, R or T is installed, the corresponding letter on the modification plate will be blacked out. Honeywell Service Bulletin 7510100-34-A0035, dated July 11, 2003, is an acceptable source of service information for this inspection. If Mod T is installed, no further action is required by this paragraph. If Mod L, N, P, or R is installed, before further flight, do all applicable related investigative, corrective, and other specified actions, in accordance with the Accomplishment Instructions of Honeywell Service Bulletin 7510100-34-A0035, dated July 11, 2003; and Honeywell Service Bulletin 7510100-34-0037, dated July 8, 2004; to ensure that the NRM is at the Mod T configuration. Once the actions in this paragraph are completed, the AFM revision required by paragraph (h) of this AD may be removed from the AFM.

Note 4: Honeywell Service Bulletin 7510100-34-A0035, dated July 11, 2003, refers to Honeywell Service Bulletin 7510100-34-A0034, dated February 28, 2003, as an additional source of service information for inspecting to determine the NRM part number, marking the modification plates of the NRM and INU accordingly, testing the INU for discrepant signals, and replacing the unit with a new or modified INU, as applicable. Honeywell Service Bulletin 7510100-34-A0034 refers to Honeywell Service Bulletin 7510134-34-A0016, currently at Revision 001, dated March 4, 2003, as an additional source of service information for marking the modification plates of the NRM and INU.

Note 5: Honeywell Service Bulletin 7510100-34-0037, dated July 8, 2004, refers to Honeywell Service Bulletin 7510134-34-0018, dated July 8, 2004, as an additional source of service information for modifying the NRM to the Mod T configuration.

(k) If the inspection specified by paragraph (j) of this AD is done within the compliance time specified in paragraph (f) of this AD, paragraph (g) of this AD does not need to be done.

No Reporting Requirement

(l) Where Honeywell Service Bulletin 7510100-34-A0035 (or any of the related service information referenced therein) specifies to submit certain information to the manufacturer, this AD does not include that requirement.

Alternative Methods of Compliance (AMOCs)

(m)(1) The Manager, Los Angeles Aircraft Certification Office (ACO), FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Issued in Renton, Washington, on May 9, 2006.
Ali Bahrami,
Manager, Transport Airplane Directorate, Aircraft Certification Service.

[FR Doc. E6-7559 Filed 5-17-06; 8:45 am]

BILLING CODE 4910-13-P